DEPARTMENT OF HEALTH AND HUMAN SERVICES

Centers for Disease Control and Prevention

Disease, Disability and Injury Prevention and Control Special Emphasis Panel: The National Occupational Research Agenda (NORA), RFA OH-00-002, Intervention Effectiveness Research in Occupational Safety and Health

In accordance with section 10(a)(2) of the Federal Advisory Committee Act (Pub. L. 92-463), the Centers for Disease Control and Prevention (CDC) announces the following meeting.

Name: Disease, Disability and Injury Prevention and Control Special Emphasis Panel: The National Occupational Research Agenda (NORA), RFA OH-00-002, Intervention Effectiveness Research in Occupational Safety and Health.

Times and Date: 8 a.m.-8:30 a.m., June 20, 2000 (Open). 8:30 a.m.-5 p.m., June 20, 2000 (Closed).

Place: Embassy Suites Hotel, 1900 Diagonal Rd., Alexandria, VA 22134.

Status: Portions of the meeting will be closed to the public in accordance with provisions set forth in section 552b(c)(4) and (6), Title 5 U.S.C., and the Determination of the Associate Director for Management and Operations, CDC, pursuant to Public Law 92-463.

Matters To Be Discussed: The meeting will include the review, discussion, and evaluation of applications received in response to the NORA RFA OH-00-002.

Contact Person for More Information: Price Connor, Ph.D., National Institute for Occupational Safety and Health, CDC, 1600 Clifton Road, N.E., m/s D30 Atlanta, Georgia 30333. Telephone 404/639-2383, e-mail spc3@cdc.gov.

The Director, Management Analysis and Services Office, has been delegated the authority to sign Federal Register Notices pertaining to announcements of meetings and other committee management activities, for both the Centers for Disease Control and Prevention and the Agency for Toxic Substances+ and Disease Registry.

Dated: May 23, 2000.
Carolyn J. Russell,
Director, Management Analysis and Services Office, Centers for Disease Control and Prevention (CDC).

[FR Doc. 00-13654 Filed 5-31-00; 8:45 am]

BILLING CODE 4163-19-P